DEPARTMENT OF TRANSPORTATION

Federal Aviation Administration

14 CFR Part 71

[Docket No. FAA-2014-1124; Airspace Docket No. 14-ASW-12]

RIN 2120-AA66

Modification of Air Traffic Service (ATS) Routes in the Vicinity of Baton Rouge, LA

AGENCY: Federal Aviation Administration (FAA), DOT.

ACTION: Final rule, technical amendment.

SUMMARY: This action amends the legal description of three Jet Routes, one High Altitude Area Navigation (RNAV) Route (Q-route), and five VHF Omnidirectional Range (VOR) Federal Airways in the vicinity of Baton Rouge, LA. The FAA is taking this action because the Baton Rouge VHF Omnidirectional Range/Tactical Air Navigation (VORTAC) navigation aid, included as part of the route structure for the airways, is being renamed the Fighting Tiger VORTAC.

DATES: Effective date 0901 UTC, April 30, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: (202) 267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

The Rule

This action amends Title 14 of the Code of Federal Regulations (14 CFR) part 71 by amending the legal descriptions of Jet Routes J-2, J-138, and J-590; High Altitude RNAV Route Q-24; and VOR Federal Airways V-70, V-71, V-114, V-194, and V-559 in the vicinity of Baton Rouge, LA. Currently, these airways have the Baton Rouge, LA, [VORTAC] included as part of their route structure. The Baton Rouge VORTAC and the Baton Rouge Metropolitan Airport, both in Baton Rouge, LA, have similar names and share the same facility identifier (BTR), but are not co-located. Because the Baton Rouge VORTAC is actually located 8 nautical miles outside the airport boundary, and to eliminate a potential flight safety issue causing navigation confusion, the Baton Rouge VORTAC is renamed the Fighting Tiger VORTAC and assigned a new facility identifier (LSU). The Jet Routes, High Altitude RNAV Route, and VOR Federal airways with Baton Rouge, LA, [VORTAC] included in their legal descriptions will be amended to reflect the name change. The name change of the VORTAC will coincide with the effective date of this rulemaking action.

Since this action merely involves editorial changes in the legal description of Jet Routes, a High Altitude RNAV Route, and VOR Federal Airways, and does not involve a change in the dimensions or operating requirements of that airspace, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it renames a navaid in the legal description of Jet Routes, a High Altitude RNAV Route, and VOR Federal Airways in the vicinity of Baton Rouge, LA.

Jet Routes, High Altitude United States RNAV Routes, and Domestic VOR Federal Airways are published in paragraphs 2004, 2006, and 6010(a), respectively, of FAA Order 7400.9Y, dated August 6, 2014, and effective September 15, 2014, which is incorporated by reference in 14 CFR 71.1. The Jet Routes, High Altitude RNAV Route, and domestic VOR Federal Airways listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 2004—Jet Routes

* * * * *

J-2 [Amended]

From Mission Bay, CA; Imperial, CA; Bard, AZ; INT Bard 089° and Gila Bend, AZ, 261° radials; Gila Bend; Tucson, AZ; El Paso, TX; Fort Stockton, TX; Junction, TX; San Antonio, TX; Humble, TX; Lake Charles, LA; Fighting Tiger, LA; Semmes, AL; Crestview, FL; INT Crestview 091° and Seminole, FL, 290° radials; Seminole; to Taylor, FL.

* * * * *

J-138 [Amended]

From Fort Stockton, TX; Center Point, TX; San Antonio, TX; Hobby, TX; Lake Charles, LA; Fighting Tiger, LA; to Semmes, AL.

* * * * *

J-590 [Amended]

From Lake Charles, LA; Fighting Tiger, LA; Greene County, MS; to Montgomery, AL.

Paragraph 2006—United States Area Navigation Routes

* * * * *

Q-24 Lake Charles, LA to PAYTN, AL [Amended]

Lake Charles, LA (LCH) | VORTAC | (lat. 30°08′29″ N., long. 93°06′20″ W).
Fighting Tiger, LA (LSU) | VORTAC | (lat. 30°29′06″ N., long. 91°17′39″ W).
IRUBE, MS | WP | (lat. 31°00′16″ N., long. 88°56′19″ W).
PAYTN, AL | FIX | (lat. 31°28′04″ N., long. 87°53′08″ W).

* * * * *

Paragraph 6010(a)—Domestic VOR Federal Airways

* * * * *

V-70 [Amended]

From Monterrey, Mexico; Brownsville, TX; INT Brownsville 338° and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; Picayune, MS; Green County, MS; Monroeville, AL; INT Monroeville 073° and Eufaula, AL, 258° radials; Eufaula; Vienna, GA; to Allendale, SC. From Grand Strand, SC; Wilmington, NC; Kinston, NC; INT Kinston 050° and Cofield, NC, 186° radials; to Cofield. The airspace within Mexico is excluded.

V-71 [Amended]

From Fighting Tiger, LA; Natchez, MS; Monroe, LA; El Dorado, AR; Hot Springs, AR; INT Hot Springs 358° and Harrison, AR, 176° radials; Harrison; Springfield, MO; Butler, MO; Topeka, KS; Pawnee City, NE; INT Pawnee City 334° and Lincoln, NE., 146° radials; Lincoln; Columbus, NE; O'Neill, NE; Winner, SD; Pierre, SD; Bismarck, ND; to Williston, ND.

* * * * *

V-114 [Amended]

From Panhandle, TX; Childress, TX; Wichita Falls, TX; INT Wichita Falls 117° and Blue Ridge, TX, 285° radials; Blue Ridge; Quitman, TX; Gregg County, TX; Alexandria, LA; INT Fighting Tiger, LA, 307° and Lafayette, LA, 042° radials; 7 miles wide (3 miles north and 4 miles south of centerline); Fighting Tiger; INT Fighting Tiger 112° and Reserve, LA, 323° radials; Reserve; INT Reserve 084° and Gulfport, MS, 247° radials; Gulfport, INT Gulfport 344° and Eaton, MS, 171° radials; to Eaton, excluding the portion within R3801B and R-3701C when active.

* * * * *

V-194 [Amended]

From Cedar Creek, TX; College Station, TX; INT College Station 151° and Hobby, TX, 289° radials; Hobby; Sabine Pass, TX; Lafayette, LA; Fighting Tiger, LA; McComb, MS; INT McComb 055° and Meridian, MS, 221° radials; to Meridian. From Liberty, NC; Raleigh-Durham, NC; Tar River, NC; Cofield, NC; to INT Cofield 077° and Norfolk, VA, 209° radials.

* * * * *

V-559 [Amended]

From Lafayette, LA; INT Lafayette 016° and Fighting Tiger, LA, 264° radials; to Fighting Tiger.

Issued in Washington, DC, on February 6, 2015.
Gary A. Norek,
Manager, Airspace Policy and Regulations Group.

[FR Doc. 2015-03056 Filed 2-13-15; 8:45 am]

BILLING CODE 4910-13-P